DEPARTMENT OF STATE

[Public Notice No. 3448]

Defense Trade Advisory Group; Notice of Open Meeting

The Defense Trade Advisory Group (DTAG) will meet in open session beginning at 8:30 a.m. on Tuesday, November 21, 2000, in Room F-3420 at the National Foreign Affairs Training Center (NFATC), 4000 Arlington Blvd., Arlington, VA. The membership of this advisory committee consists of private sector defense trade specialists, appointed by the Assistant Secretary of State for Political-Military Affairs, who advise the Department on policies, regulations, and technical issues affecting defense trade.

As the DTAG has not met in plenary session for some time, this meeting is primarily organizational in nature and will focus on establishing future work programs.

Members of the public may attend the open session as seating capacity allows, and will be permitted to participate in the discussion in accordance with the Chairman's instructions.

As access to the Department of State facilities is controlled, persons wishing to attend the meeting must notify the DTAG Executive Secretariat by COB Thursday, November 16, 2000. If notified after this date, the DTAG Secretariat cannot guarantee that State's Bureau of Diplomatic Security can complete the necessary processing required to attend the November 21 plenary.

Each non-member observer wishing to attend should provide his/her name, company or organizational affiliation, date of birth, and social security number to the DTAG Secretariat by fax to (202) 647-4232 (Attention: Mike Slack). A list will be made up for Diplomatic Security and the Reception Desk at the NFATC Visitor Center. Attendees must present a valid photo ID for entry.

FOR FURTHER INFORMATION CONTACT: Mike Slack, DTAG Secretariat, U.S. Department of State, Office of Regional Security and Arms Transfers (PM/RSAT), Room 7424 Main State, Washington, DC 20520-2422. Phone: (202) 647-2882, Fax (202) 647-9779.

Dated: October 30, 2000.
Timothy J. Dunn,
Executive Secretary, Defense Trade Advisory Group.

[FR Doc. 00-28269 Filed 11-2-00; 8:45 am]

BILLING CODE 4710-25-P